FEDERAL MARITIME COMMISSION

Ocean Transportation Intermediary License; Rescission of Order of Revocation

Notice is hereby given that the Orders revoking the following licenses are being rescinded by the Federal Maritime Commission pursuant to section 19 of the Shipping Act of 1984 (46 U.S.C. Chapter 409) and the regulations of the Commission pertaining to the licensing of Ocean Transportation Intermediaries, 46 CFR part 515.

License Number: 017970N.

Name: Diarama Export, Inc.

Address: 2754 NW North Drive, Miami, FL 33142.

Order Published: FR: 4/22/2010 (Volume 75, No. 77 Pg. 20999).

License Number: 019271N.

Name: Xima Freight Services, Inc.

Address: 1525 NW 82nd Avenue, Miami, FL 33126.

Order Published: FR: 5/7/2010 (Volume 75, No. 88 Pg. 25258).

Sandra L. Kusumoto,
Director, Bureau of Certification and Licensing.

[FR Doc. 2010-12058 Filed 5-19-10; 8:45 am]

BILLING CODE 6730-01-P